DEPARTMENT OF TRANSPORTATION

Federal Aviation Administration

Receipt of Noise Compatibility Program and Request for Review for Burbank-Glendale-Pasadena Airport, Burbank, California

AGENCY: Federal Aviation Administration.

ACTION: Notice.

SUMMARY: The Federal Aviation Administration (FAA) announces that it is reviewing a proposed noise compatibility program that was submitted for the Burbank-Glendale-Pasadena Airport under the provisions of Title I of the Aviation Safety and Noise Abatement Act of 1979 (Public Law 96-193) (hereinafter referred to as “the Act”) and 14 CFR part 150 by the city of Burbank, California. This program was submitted subsequent to a determination by the FAA that the associated noise exposure maps submitted under 14 CFR part 150 for Burbank-Glendale-Pasadena Airport were in compliance with applicable requirements effective January 31, 2000. The proposed noise compatibility program will be approved or disapproved on or before November 27, 2000.

EFFECTIVE DATE: The effective date of the start of FAA's review of the noise compatibility program is May 31, 2000. The public comment period ends on July 31, 2000.

FOR FURTHER INFORMATION CONTACT: David B. Kessler, AICP, Environmental Protection Specialist, AWP-611.2, Planning Section, Western-Pacific Region, Federal Aviation Administration, P.O. Box 92007, Worldway Postal Center, Los Angeles, California 90009-2007, Telephone 310/725-3615 Street Address: 15000 Aviation Boulevard, Hawthorne, California 90261. Comments on the proposed noise compatibility program should also be submitted to the above office.

SUPPLEMENTARY INFORMATION: This notice announces that the FAA is reviewing a proposed noise compatibility program for Burbank-Glendale-Pasadena Airport, which will be approved or disapproved on or before November 27, 2000. This notice also announces the availability of this program for public review and comment.

An airport operator who has submitted noise exposure maps that are found by FAA to be in compliance with the requirements of Federal Aviation Regulations (FAR) Part 150, promulgated pursuant to Title I of the Act, may submit a noise compatibility program for FAA approval which sets forth the measures the operator has taken or proposes for the reduction of existing noncompatible uses and for the prevention of the introduction of additional noncompatible uses.

The FAA has formally received the noise compatibility program for Burbank-Glendale-Pasadena Airport, effective on May 31, 2000. It was requested that the FAA review this material and that the noise mitigation measures, to be implemented jointly by the airport and surrounding communities, be approved as a noise compatibility program under section 104(b) of the Act. Preliminary review of the submitted material indicates that it conforms to the requirements for the submittal of noise compatibility programs, but that further review will be necessary prior to approval or disapproval of the program. The formal review period, limited by law to a maximum of 180 days, will be completed on or before November 27, 2000.

The FAA's detailed evaluation will be conducted under the provisions of 14 CFR part 150, section 150.33. The primary considerations in the evaluation process are whether the proposed measures may reduce the level of aviation safety, create an undue burden on interstate or foreign commence, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the noise exposure maps, the FAA's evaluation of the maps, and the proposed noise compatibility program are available for examination at the following locations:

Federal Aviation Administration, National Headquarters, Community and Environmental Needs Division, 800 Independence Avenue, SW., Room 621, Washington, D.C. 20591.

Federal Aviation Administration, Western-Pacific Region Office 15000 Aviation Boulevard, Room 3012, Hawthorne, California 90261.

Mr. Dios Marrero, Executive Director, Burbank-Glendale-Pasadena Airport Authority, 2627 Hollywood Way, Burbank, California 90505

Questions may be directed to the individual named above under the heading, FOR FURTHER INFORMATION CONTACT.

Issued in Hawthorne, California, on May 31, 2000.
Herman C. Bliss,
Manager, Airports Division, Western-Pacific Region, AWP-600.

[FR Doc. 00-15214 Filed 6-15-00; 8:45 am]

BILLING CODE 4910-13-M